DEPARTMENT OF THE INTERIOR

Royalty Policy Committee (RPC)—Notice of Renewal

AGENCY: Minerals Management Service, Interior.

ACTION: Notice of renewal of the Royalty Policy Committee.

SUMMARY: Following consultation with the General Services Administration, notice is hereby given that the Secretary of the Interior (Secretary) is renewing the Royalty Policy Committee.

The Royalty Policy Committee provides advice related to the Department's management of Federal and Indian mineral leases and revenues, and reports to the Secretary through the Director of the Minerals Management Service. The Royalty Policy Committee also reviews and provides comments on recent management and other mineral-related policies; and provides a forum to convey views representative of mineral leases, operators, revenue payors, revenue recipients, government agencies, and the interested public.

FOR FURTHER INFORMATION CONTACT: Ms. Gina Dan, Minerals Revenue Management, Minerals Management Service, Denver, Colorado 80225-0165, telephone number (303) 231-3392.

Certification

I hereby certify that the renewal of the Royalty Policy Committee is in the public interest in connection with the performance of duties imposed on the Department of the Interior by 43 U.S.C. 1331 et seq.

Dated: March 27, 2008.
Dirk Kempthorne,
Secretary of the Interior.

[FR Doc. E8-7313 Filed 4-7-08; 8:45 am]

BILLING CODE 4310-MR-P